DEPARTMENT OF THE TREASURY

Office of Foreign Assets Control

Notice of OFAC Sanctions Actions

AGENCY: Office of Foreign Assets Control, Treasury.

ACTION: Notice.

SUMMARY: The U.S. Department of the Treasury's Office of Foreign Assets Control (OFAC) is publishing the names of one or more persons that have been placed on OFAC's Specially Designated Nationals and Blocked Persons List based on OFAC's determination that one or more applicable legal criteria were satisfied. All property and interests in property subject to U.S. jurisdiction of these persons are blocked, and U.S. persons are generally prohibited from engaging in transactions with them.

DATES: See SUPPLEMENTARY INFORMATION section for applicable date(s).

FOR FURTHER INFORMATION CONTACT:

OFAC: Associate Director for Global Targeting, tel.: 202-622-2420; Assistant Director for Sanctions Compliance & Evaluation, tel.: 202-622-2490; Assistant Director for Licensing, tel.: 202-622-2480.

SUPPLEMENTARY INFORMATION:

Electronic Availability

The Specially Designated Nationals and Blocked Persons List and additional information concerning OFAC sanctions programs are available on OFAC's website (www.treas.gov/ofac).

Notice of OFAC Actions

On May 20, 2020, OFAC determined that the property and interests in property subject to U.S. jurisdiction of the following persons are blocked under the relevant sanctions authorities listed below.

Individuals

1. ALI NOORINAJAD, Mohammad, Iran; POB Kabudar Ahang, Iran; nationality Iran; Additional Sanctions Information—Subject to Secondary Sanctions; Gender Male; National ID No. 4032108617 (Iran) (individual) [IRAN-HR] (Linked To: LAW ENFORCEMENT FORCES OF THE ISLAMIC REPUBLIC OF IRAN).

Designated pursuant to section 1(a)(ii)(C) of Executive Order 13553 of September 28, 2010, “Blocking Property of Certain Persons With Respect to Serious Human Rights Abuses by the Government of Iran and Taking Certain Other Actions” (E.O. 13553), 3 CFR, 2011 Comp., p. 253, for having acted or purported to act for or on behalf of, directly or indirectly, the LAW ENFORCEMENT FORCES OF THE ISLAMIC REPUBLIC OF IRAN, a person whose property and interest in property are blocked pursuant to E.O. 13553.

2. ASHRAQ, Hamidraza, Iran; POB Abadan, Iran; nationality Iran; Additional Sanctions Information—Subject to Secondary Sanctions; Gender Male; National ID No. 11817387375 (Iran); alt. National ID No. 1817387375 (Iran) (individual) [IRAN-HR] (Linked To: LAW ENFORCEMENT FORCES OF THE ISLAMIC REPUBLIC OF IRAN).

Designated pursuant to section 1(a)(ii)(C) of E.O. 13553 for having acted or purported to act for or on behalf of, directly or indirectly, the LAW ENFORCEMENT FORCES OF THE ISLAMIC REPUBLIC OF IRAN, a person whose property and interest in property are blocked pursuant to E.O. 13553.

3. SHAHVARPOUR NAJAFABADI, Hassan (a.k.a. SHAHVARPOUR, Hassan), Iran; POB Safi Abad, Dezful, Khuzestan, Iran; nationality Iran; Additional Sanctions Information—Subject to Secondary Sanctions; Gender Male; National ID No. 2001624001 (Iran) (individual) [IRGC] [IFSR] [IRAN-HR] (Linked To: ISLAMIC REVOLUTIONARY GUARD CORPS).

Designated pursuant to section 1(a)(ii)(C) of E.O. 13553 for having acted or purported to act for or on behalf of, directly or indirectly, the ISLAMIC REVOLUTIONARY GUARD CORPS, a person whose property and interest in property are blocked pursuant to E.O. 13553.

4. RAHMANI FAZLI, Abdolreza (a.k.a. RAHMANI FAZLI, Abd al-Reza; a.k.a. RAHMANI FAZLI, Abdol-Reza; a.k.a. RAHMANI-FAZLI, Abdolreza), Iran; DOB 23 Dec 1959; POB Shirvan, Iran; alt. POB North Khorasan, Iran; nationality Iran; Additional Sanctions Information—Subject to Secondary Sanctions; Gender Male (individual) [IRAN] [IRAN-HR].

Designated pursuant to section 1(a)(ii)(A) of E.O. 13553 for being an official of the Government of Iran or a person acting on behalf of the Government of Iran (including members of paramilitary organizations) who is responsible for or complicit in, or responsible for ordering, controlling, or otherwise directing, the commission of serious human rights abuses against persons in Iran or Iranian citizens or residents, of the family members of the foregoing, on or after June 12, 2009, regardless of whether such abuses occurred in Iran.

5. DARVISH, Habil, Iran; DOB 1952; alt. DOB 1953; POB Para Qeshlaq, Parsabad-Moghan, Iran; nationality Iran; Additional Sanctions Information—Subject to Secondary Sanctions; Gender Male (individual) [IRAN-HR] (Linked To: LAW ENFORCEMENT FORCES OF THE ISLAMIC REPUBLIC OF IRAN COOPERATIVE FOUNDATION).

Designated pursuant to section 1(a)(ii)(C) of E.O. 13553 for having acted or purported to act for or on behalf of, directly or indirectly, the LAW ENFORCEMENT FORCES OF THE ISLAMIC REPUBLIC OF IRAN COOPERATIVE FOUNDATION, a person whose property and interest in property are blocked pursuant to E.O. 13553.

6. FATHI ZADEH, Mohsen, Iran; POB Azna, Iran; nationality Iran; Additional Sanctions Information—Subject to Secondary Sanctions; Gender Male; National ID No. 4839651760 (Iran) (individual) [IRAN-HR] (Linked To: LAW ENFORCEMENT FORCES OF THE ISLAMIC REPUBLIC OF IRAN).

Designated pursuant to section 1(a)(ii)(C) of E.O. 13553 for being owned or controlled by, or having acted or purported to act for or on behalf of, directly or indirectly, the LAW ENFORCEMENT FORCES OF THE ISLAMIC REPUBLIC OF IRAN, a person whose property and interest in property are blocked pursuant to E.O. 13553.

7. MAHMOODZADEH, Yahya, Iran; POB Tehran, Iran; nationality Iran; Additional Sanctions Information—Subject to Secondary Sanctions; Gender Male; National ID No. 0046206310 (Iran) (individual) [IRAN-HR] (Linked To: LAW ENFORCEMENT FORCES OF THE ISLAMIC REPUBLIC OF IRAN).

Designated pursuant to section 1(a)(ii)(C) of E.O. 13553 for being owned or controlled by, or having acted or purported to act for or on behalf of, directly or indirectly, the LAW ENFORCEMENT FORCES OF THE ISLAMIC REPUBLIC OF IRAN, a person whose property and interest in property are blocked pursuant to E.O. 13553.

8. ASHTARI FARD, Hossein (a.k.a. AHSTARI, Hossein), Iran; DOB 1962; alt. DOB 1963; POB Isfahan, Iran; nationality Iran; Additional Sanctions Information—Subject to Secondary Sanctions; Gender Male (individual) [IRAN-HR] (Linked To: LAW ENFORCEMENT FORCES OF THE ISLAMIC REPUBLIC OF IRAN).

Designated pursuant to section 1(a)(ii)(C) of E.O. 13553 for being owned or controlled by, or having acted or purported to act for or on behalf of, directly or indirectly, the LAW ENFORCEMENT FORCES OF THE ISLAMIC REPUBLIC OF IRAN, a person whose property and interest in property are blocked pursuant to E.O. 13553.

9. SOLEIMANI, Ayoub, Iran; POB Kamaraj, Fars Province, Iran; nationality Iran; Additional Sanctions Information—Subject to Secondary Sanctions; Gender Male; National ID No. 5479886967 (Iran) (individual) [IRAN-HR] (Linked To: LAW ENFORCEMENT FORCES OF THE ISLAMIC REPUBLIC OF IRAN).

Designated pursuant to section 1(a)(ii)(C) of E.O. 13553 for being owned or controlled by, or having acted or purported to act for or on behalf of, directly or indirectly, the LAW ENFORCEMENT FORCES OF THE ISLAMIC REPUBLIC OF IRAN, a person whose property and interest in property are blocked pursuant to E.O. 13553.

Entity

1. LAW ENFORCEMENT FORCES OF THE ISLAMIC REPUBLIC OF IRAN COOPERATIVE FOUNDATION (a.k.a. BONYAD TA'AVON OF NAJA; a.k.a. NIROOYE ENTEZAMI JOMHORI ESLAMI BONYAD TA'AVON; a.k.a. “LAW ENFORCEMENT FORCES COOPERATIVE FOUNDATION”; a.k.a. “POLICE COOPERATIVE FOUNDATION”), Hekmat Complex, At the Beginning of Marzdaran Boulevard, Sheikh Fazlollah Nuri Highway, Tehran, Iran; Additional Sanctions Information—Subject to Secondary Sanctions; National ID No. 10100477865 (Iran); Registration ID 12322 (Iran) [IRAN-HR] (Linked To: LAW ENFORCEMENT FORCES OF THE ISLAMIC REPUBLIC OF IRAN).

Designated pursuant to section 1(a)(ii)(C) of E.O. 13553 for being owned or controlled by, directly or indirectly, the LAW ENFORCEMENT FORCES OF THE ISLAMIC REPUBLIC OF IRAN, a person whose property and interest in property are blocked pursuant to E.O. 13553.

Dated: June 15, 2020.
Andrea M. Gacki,
Director, Office of Foreign Assets Control, U.S. Department of the Treasury.

[FR Doc. 2020-13163 Filed 6-17-20; 8:45 am]

BILLING CODE 4810-AL-P